ENVIRONMENTAL PROTECTION AGENCY

[FRL-9963-99-Region 6]

Clean Air Act Operating Permit Program; Petitions for Objection to State Operating Permit for Bunge North America, Inc. Destrehan Grain Elevator, Destrehan, St. Charles Parish, Louisiana

AGENCY: Environmental Protection Agency (EPA).

ACTION: Notice of final action.

SUMMARY: Pursuant to the Clean Air Act (CAA), the EPA Administrator signed an Order, dated June 7, 2017, denying a petition asking EPA to object to the operating permit issued by the Louisiana Department of Environmental Quality (LDEQ) to Bunge North America, Inc. (Bunge) for its Destrehan Grain Elevator. Title V operating permit number 2520-00048-V5 was issued on December 18, 2015 by the LDEQ to Bunge for modifications to the Destrehan Grain Elevator located in St. Charles Parish, Louisiana. EPA's June 7, 2017 Order responds to a petition submitted on January 24, 2016 by the Tulane Environmental Law Clinic on behalf of Petitioners Ms. Cynthia Portera and Ms. Toni Offerman. Sections 307(b) and 505(b)(2) of the Act provide that a petitioner may ask for judicial review of those portions of the Orders that deny objections raised in the petitions in the appropriate United States Court of Appeals. Any petition for review shall be filed within 60 days from the date this notice appears in the Federal Register, pursuant to section 307(b) of the Act.

ADDRESSES: You may review copies of the final Order, the petition, and other supporting information at EPA Region 6, 1445 Ross Avenue, Dallas, Texas 75202-2733.

EPA requests that if at all possible, you contact the individual listed in the FOR FURTHER INFORMATION CONTACT section to view copies of the final Order, petition, and other supporting information. You may view the hard copies Monday through Friday, from 9:00 a.m. to 3:00 p.m., excluding Federal holidays. If you wish to examine these documents, you should make an appointment at least 24 hours before the visiting day. Additionally, the final June 7, 2017 Order is available electronically at: https://www.epa.gov/sites/production/files/2017-06/documents/bunge_response2016.pdf.

FOR FURTHER INFORMATION CONTACT: Brad Toups at (214) 665-7258, email address: toups.brad@epa.gov or the above EPA, Region 6 address.

SUPPLEMENTARY INFORMATION: The CAA affords EPA a 45-day period to review, and object, as appropriate, to a title V operating permit proposed by a state permitting authority. Section 505(b)(2) of the CAA and 40 CFR 70.8(d) authorizes any person to petition the EPA Administrator, within 60 days after the expiration of this review period, to object to a title V operating permit if EPA has not done so. Petitions must be based only on objections to the permit that were raised with reasonable specificity during the public comment period provided by the state, unless the petitioner demonstrates that it was impracticable to raise these issues during the comment period or unless the grounds for the issue arose after this period.

EPA received the petition from the Petitioners on January 24, 2016 for the operating permit issued on December 18, 2015 to Bunge North America, Inc. Destrehan Grain Elevator, Destrehan, St. Charles Parish, Louisiana.

The Petitioner requests that the Administrator object to the proposed operating permit issued by the LDEQ to Bunge based on two claims. The claims are described in detail in Section IV of the Order. In summary, the issues raised are that: (1) The permit fails to comply with the Act's requirements for inclusion of a compliance plan and schedule in an issued permit; and, (2) the permit should have addressed the state `Environmental Assessment' as mandated under Louisiana Revised Statute R.S. 30:2018(C) for any source undergoing a `substantial modification.' The Order issued on June 7, 2017 responds to the Petition and explains the basis for EPA's decision.

Dated: June 29, 2017.
Samuel Coleman,
Acting Regional Administrator, Region 6.

[FR Doc. 2017-15324 Filed 7-20-17; 8:45 am]

BILLING CODE 6560-50-P